DEPARTMENT OF COMMERCE

Bureau of Export Administration

Sensors and Instrumentation Technical Advisory Committee; Notice of Open Meeting

The Sensors and Instrumentation Technical Advisory Committee will meet on August 14, 2001, 9 a.m., in the Herbert C. Hoover Building, Room 3884, 14th Street between Pennsylvania and Constitution Avenues, NW., Washington, DC. The Committee advises the Office of the Assistant Secretary for Export Administration with respect to technical questions that affect the level of export controls applicable to sensors and instrumentation equipment and technology.

Agenda

1. Opening remarks by the Chairman.

2. Presentation of papers or comments by the public.

3. Report on consideration to certify foreign availability assessment study presented by International Safety Instruments Association.

4. Discussion on SITAC proposal for change to Wassenaar Arrangement Dual-Use Control List.

5. Discussion of draft changes to Commerce Control List

Category 6 (sensors and lasers).

The meeting will be open to the public and a limited number of seats will be available. Reservations are not accepted. To the extent that time permits, members of the public may present oral statements to the Committee. Written statements may be submitted at any time before or after the meeting. However, to facilitate distribution of public presentation materials to the Committee members, the Committee suggests that presenters forward the public presentation materials two weeks prior to the meeting date to the following address: Ms. Lee Ann Carpenter, OSIES/EA/BXA MS:3876, U.S. Department of Commerce, 14th St. & Constitution Ave., NW., Washington, DC 20230.

For more information or copies of the minutes, contact Lee Ann Carpenter on (202) 482-2583.

Dated: July 12, 2001.
Lee Ann Carpenter,
Committee Liaison Officer.

[FR Doc. 01-17868 Filed 7-17-01; 8:45 am]

BILLING CODE 3510-JT-M